DEPARTMENT OF AGRICULTURE

Forest Service

Central Idaho Resource Advisory Committee Meeting; Salmon-Challis National Forest Butte, Custer, and Lemhi Counties, ID

AGENCY: Forest Service, USDA.

ACTION: Notice of meeting of the Resource Advisory Committee.

SUMMARY: The Central Idaho Resource Advisory Committee will meet at 3:30 p.m., February 22, 2002 at the Challis High School cafeteria, 100 High Street, Challis, Idaho. The 15-member committee will establish procedures for evaluating proposed projects and discuss preliminary project proposals for 2002. The meeting is open to the public and time will be scheduled for public comments.

The Central Idaho Resource Advisory Committee was established by the Secretary of Agriculture under Title II of the Secure Rural Schools and Community Self-Determination Act of 2000 to work collaboratively with the Salmon-Challis National Forest to provide advice and recommendations consistent with the purposes of the Act.

Dated: February 5, 2002.
George Matejko,
Forest Supervisor, Salmon-Challis National Forest, Designated Federal Officer, Central Idaho Resource Advisory Committee.

[FR Doc. 02-3599 Filed 2-13-02; 8:45 am]

BILLING CODE 3410-11-M